DEPARTMENT OF DEFENSE

Department of the Army

Privacy Act of 1974; System of Records

AGENCY: Department of the Army, DoD.

ACTION: Notice to alter a system of records.

SUMMARY: The Department of the Army is altering a system of records notice in its existing inventory of record systems subject to the Privacy Act of 1974, (5 U.S.C. 552a), as amended. The alteration consists of expanding the category of individuals and records covered, adding a new purpose, and adding two new routine uses. The new routine uses being added are below:

“To former spouses, who receive payments under 10 U.S.C. 1408, for purposes of providing information on how their payment was calculated to include what items were deducted from the member's gross pay and the dollar amount for each deduction.”

“To Federal, State, or local child support agencies, in response to their written requests for information regarding the gross and disposable pay of civilian employees, for purposes of assisting the agencies in the discharge of their responsibilities under Federal and State law.”

DATES: This proposed action will be effective without further notice on April 7, 2003, unless comments are received which result in a contrary determination.

ADDRESSES: Army Systems of Records Notices Manager, Department of Army Freedom of Information and Privacy Acts Office, 7798 Cissna Road, Suite 205, Springfield, VA 22153-3166.

FOR FURTHER INFORMATION CONTACT: Ms. Janice Thornton at (703) 806-7137.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on February 25, 2003, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 28, 2003.
Patricia L. Toppings,
Alternate OSD Federal Register Liaison Officer, Department of Defense.

AAFES 0703.07

System Name:

AAFES Employee Pay System Records (August 9, 1996, 61 FR 41588).

Changes:

* * * * *

Categories of Individuals Covered by the System:

Delete entry and replace with “Individuals paid by the Army and Air Force Exchange System (AAFES). These include, but are not limited to, civilian employees, contractors, family members, and spouse or former spouse.”

Categories of Records in the System:

Add to entry “leave accrual date; retirement participation data; job code and title; employment category; pay plan; wage schedule; and base hourly rate; court orders affecting pay; and similar related documents.”

* * * * *

Purpose(s):

Revise the first paragraph by adding “to process payment in compliance with court orders (i.e. Qualifying Domestic Relations Order).”

Routine uses of records maintained in the system, including categories of users and the purposes of such uses:

Add two new paragraphs to entry “To former spouses, who receive payments under 10 U.S.C. 1408, for purposes of providing information on how their payment was calculated to include what items were deducted from the member's gross pay and the dollar amount for each deduction.”

“To Federal, State, or local child support agencies, in response to their written requests for information regarding the gross and disposable pay of civilian employees, for purposes of assisting the agencies in the discharge of their responsibilities under Federal and State law.”

* * * * *

Retention and Disposal:

Delete entry and replace with “Destroy after 6 years following termination of AAFES’ involvement. Payroll Registers and Qualifying Domestic Relations Order records are permanent records.”

* * * * *

AAFES 0703.07

System Name:

AAFES Employee Pay System Records.

System Location:

Headquarters, Army and Air Force Exchange Service, 3911 S. Walton Walker Boulevard, Dallas, TX 75236-1598;

Commander, Army and Air Force Exchange Service-Pacific Rim Region, Unit 35163, APO AP 96378-0163; and

Commander, Army and Air Force Exchange Service-Europe, Unit 24580, APO AE 09245-4580.

Categories of Individuals Covered by the System:

Individuals paid by the Army and Air Force Exchange System (AAFES). These include, but are not limited to, civilian employees, contractors, family members, and spouse or former spouse.

Categories of Records in the System:

Individual's name; Social Security Number; AAFES facility number; individual's pay, leave, and retirement records, withholding/deduction authorization for allotments, health benefits, life insurance, savings bonds, financial institutions, etc.; tax exemption certificates; personal exception and indebtedness papers; subsistence and quarters records; statements of charges, claims; roster and signature cards of designated timekeepers; payroll and retirement control and working paper files; unemployment compensation data requests and responses; reports of retirement fund deductions; management narrative and statistical reports relating to pay, leave, and retirement, leave accrual date; retirement participation data; job code and title; employment category; pay plan; wage schedule; and base hourly rate; court orders affecting pay; and similar related documents.

Authority for Maintenance of the System:

10 U.S.C. 3013, Secretary of the Army; 10 U.S.C. 8013, Secretary of the Air Force; 42 U.S.C. 659, Consent by United States to income withholding, garnishment, and similar proceeding for enforcement of child support and alimony obligations; 31 CFR 285.11, Administrative Wage Garnishment; DoD Directive 7000.14-R, DoD Financial Management Regulation; Army Regulation 60-20, Army and Air Force Exchange Service Operating Policies; and E.O. 9397 (SSN).

Purpose(s):

To provide basis for computing civilian pay entitlements; to record history of pay transactions, leave accrued and taken, bonds due and issued, taxes paid; to process payment in compliance with court orders (i.e. Qualifying Domestic Relations Order), and to answer inquiries and process claims.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

To the Treasury Department to record checks and bonds issued.

To the Internal Revenue Service for the purpose of reporting taxable earnings, taxes withheld, and to locate delinquent debtors.

To States and cities/counties to provide taxable earnings of civilian employees to those States and cities or counties which have entered into an agreement with the Department of Defense and the Department of the Treasury.

To State Employment Offices to provide information relevant to the State's determination of individual's entitlement to unemployment compensation.

To the U.S. Department of Justice/U.S. Attorneys for legal action and/or final disposition of debt claims against the Army and Air Force Exchange Service.

To former spouses, who receive payments under 10 U.S.C. 1408, for purposes of providing information on how their payment was calculated to include what items were deducted from the member's gross pay and the dollar amount for each deduction.

To Federal, State, or local child support agencies, in response to their written requests for information regarding the gross and disposable pay of civilian employees, for purposes of assisting the agencies in the discharge of their responsibilities under Federal and State law.

To private collection agencies for collection action when the Army and Air Force Exchange Service has exhausted its internal collection efforts.

The DoD “Blanket Routine Uses” set forth at the beginning of the Army's compilation of systems of records notices apply to this system.

Disclosure to Consumer Reporting Agencies:

Disclosures pursuant to 5 U.S.C. 552a(b)(12) may be made from this system to “consumer reporting agencies” as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and Practices for Storing, Retrieving, Accessing, Retaining, and Disposing of Records in the System:

Storage:

Paper records in file folders and electronic storage medium.

Retrievability:

By individual's surname and Social Security Number.

Safeguards:

Records are restricted to personnel who are properly cleared and trained and have an official need therefore. In addition, integrity of automated data is ensured by internal audit procedures, data base access accounting reports and controls to preclude unauthorized disclosure.

Retention and disposal:

Destroy after 6 years following termination of AAFES” involvement. Payroll Registers and Qualifying Domestic Relations Order records are permanent records.

System manager(s) and address:

Commander, Headquarters, Army and Air Force Exchange Service, 3911 S. Walton Walker Boulevard, Dallas, TX 75236-1598.

Notification procedure:

Individuals seeking to determine whether information about themselves is contained in this system should address written inquiries to the Commander, Headquarters, Army and Air Force Exchange Service, Attn: FA, 3911 S. Walton Walker Boulevard, Dallas, TX 75236-1598.

Individual should provide their full name, Social Security Number, current address and telephone number; if terminated, include date and place of separation.

Record access pocedures:

Individuals seeking to determine whether information about themselves is contained in this system should address written inquiries to the Commander, Headquarters, Army and Air Force Exchange Service, Attn: FA, 3911 S. Walton Walker Boulevard, Dallas, TX 75236-1598.

Individual should provide their full name, Social Security Number, current address and telephone number; if terminated, include date and place of separation.

Contesting record rrocedures:

The Army's rules for accessing records and for contesting contents and appealing initial agency determinations are contained in Army Regulation 340-21; 32 CFR part 505; or may be obtained from the system manager.

Record source categories:

From the individual; personnel actions; other agency records and reports, and from court orders; and similar documents.

Exemptions claimed for the system:

None.

[FR Doc. 03-5267 Filed 3-5-03; 8:45 am]

BILLING CODE 5001-08-P